DEPARTMENT OF ENERGY

Federal Energy Regulatory Commission

[Docket No. EG03-51-000, et al.]

Tenaska Alabama II Partners, L.P., et al.; Electric Rate and Corporate Filings

March 28, 2003.

The following filings have been made with the Commission. The filings are listed in ascending order within each docket classification.

1. Tenaska Alabama II Partners, L.P.

[Docket No. EG03-51-000]

Take notice that on March 26, 2003, Tenaska Alabama II Partners, L.P., 1044 North 115th Street, Suite 400, Omaha, Nebraska 68154 (Tenaska Alabama II), filed with the Federal Energy Regulatory Commission (Commission) an application for redetermination of exempt wholesale generator status pursuant to part 365 of the Commission's regulations.

Comment Date: April 18, 2003.

2. Tenaska Alabama Partners, L.P.

[Docket No. EG03-52-000]

Take notice that on March 26, 2003, Tenaska Alabama Partners, L.P., 1044 North 115th Street, Suite 400, Omaha, Nebraska 68154 (Tenaska Alabama), filed with the Federal Energy Regulatory Commission (Commission) an application for redetermination of exempt wholesale generator status pursuant to part 365 of the Commission's regulations.

Comment Date: April 18, 2003.

3. Southern Company Services, Inc.

[Docket No. ER03-641-001]

Take notice that on March 25, 2003, Southern Company Services, Inc. (SCS), acting on behalf of Alabama Power Company, Georgia Power Company, Gulf Power Company, Mississippi Power Company, and Savannah Electric and Power Company (collectively referred to as Southern), filed a supplement to SCS's March 21, 2003, filing of Southern's Annual Filing of Revised Accruals for Post-Retirement Benefits Other Than Pensions (PBOP). SCS states that the supplement consists of Southern's 2002 actuarial reports, which describe the actuarial assumptions and serve as a basis for the 2003 projections.

Comment Date: April 15, 2003.

4. Pacific Gas and Electric Company

[Docket No. ER03-651-000]

Take notice that on March 26, 2003, Pacific Gas and Electric Company (PG&E) tendered for filing revisions to Exhibit II to the Comprehensive Agreement Between Pacific Gas and Electric Company and the California Department of Water Resources (CDWR), Pacific Gas and Electric Company First Revised Rate Schedule FERC No. 77.

PG&E states that the revisions to Exhibit II reflect a decrease in the Contract Coincidental Rate of Delivery of backbone transmission due to CDWR's sale of the Bottle Rock Powerplant, the elimination of transmission loss energy factors, and revised California Public Utilities Commission (CPUC) Electric Rule 2 Rates for Special Facilities, which result in a decrease in revenue to PG&E.

PG&E has requested certain waivers. PG&E also states that this filing has been served upon CDWR, the CPUC, and the California Independent System Operator Corporation.

Comment Date: April 16, 2003.

5. Commonwealth Edison Company

[Docket No. ER03-654-000]

Take notice that on March 25, 2003, Commonwealth Edison Company (ComEd) tendered for filing amendments to an Interconnection Agreement with Kendall New Century Development, L.L.C. (Kendall). ComEd requests an effective date of March 26, 2003, and accordingly seeks waiver of the Commission's notice requirements.

ComEd states that copies of the filing were served on Kendall and the Illinois Commerce Commission.

Comment Date: April 15, 2003.

6. Commonwealth Edison Company

[Docket No. ER03-655-000]

Take notice that on March 25, 2003, Commonwealth Edison Company (ComEd) tendered for filing an amendment to an Interconnection Agreement with Chicago Heights Energy Partners, L.L.C. (CHEP). ComEd requests an effective date of March 26, 2003, and accordingly seeks waiver of the Commission's notice requirements.

ComEd states that copies of the filing were served on CHEP and the Illinois Commerce Commission.

Comment Date: April 15, 2003.

7. Commonwealth Edison Company

[Docket No. ER03-656-000]

Take notice that on March 25, 2003, Commonwealth Edison Company (ComEd) tendered for filing with the Federal Energy Regulatory Commission (Commission), amendments to an Interconnection Agreement with Titan Land Development Company, L.L.C. (Titan). ComEd requests an effective date of March 26, 2003, and accordingly seeks waiver of the Commission's notice requirements.

ComEd states that copies of the filing were served on Titan and the Illinois Commerce Commission.

Comment Date: April 15, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-8219 Filed 4-3-03; 8:45 am]

BILLING CODE 6717-01-P